DEPARTMENT OF STATE

[Public Notice 11037]

Notice of Public Meeting Concerning the Use of Digital Sequence Information of Genetic Resources

ACTION: Notice of public meeting.

SUMMARY: In order to inform U.S. Government policy and international engagement, the U.S. Department of State (DOS) invites submission of comments from the public, academia, industry, and other stakeholders for an ongoing process under the Convention on Biological Diversity concerning the use of “digital sequence information (DSI) on genetic resources,” also known as genetic sequence data (GSD). The Department will hold a public meeting and information session to discuss these issues, on March 12, 2020.

DATES: A meeting is planned on Thursday, March 12, 2020. The meeting will begin at 10:00 p.m. EST and last for up to two hours. Electronic comments are due on or before April 30, 2020.

ADDRESSES: The meeting will be held at the U.S. State Department's Harry S. Truman Building, 2201 C Street NW, Room 1498, Washington, DC 20520. Please use the 21st Street entrance, and plan to arrive at least twenty minutes prior to the start of the meeting to allow for ID verification and escorting requirements. One electronic submission per person by the April 30 deadline is welcome, with no more than 10 pages of single-spaced text including relevant examples, with no more than one page per example. Submissions should be made via the internet at www.regulations.gov and entering docket number [DOS-2020-0005]. Note that relevant comments submitted to regulations.gov will be posted without editing and will be available to the public; therefore, business-confidential information should be clearly identified as such and submitted by email. The public is required to file submissions electronically rather than by facsimile or mail.

FOR FURTHER INFORMATION CONTACT: Questions regarding the submission of comments should be directed to Patrick Reilly (202) 647-4827, ReillyPK2@state.gov.

SUPPLEMENTARY INFORMATION: The Secretariat of the Convention on Biological Diversity (CBD) released three studies on “Digital Sequence Information on Genetic Resources” (https://www.cbd.int/dsi-gr/2019-2020/studies/) that examine scope, present use, traceability, access, and current benefit-sharing schemes. These studies were commissioned to inform decisions by the Parties to the CBD and the Nagoya Protocol at the 2020 Conference of Parties to the CBD and the Conference of Parties serving as the Meeting of the Parties to the Nagoya Protocol.

During the public meeting and information session, the State Department will provide a brief overview of the ongoing discussions regarding DSI on genetic resources in the context of the CBD and the Nagoya Protocol and will listen to your comments, concerns, and questions about this issue. The information obtained from these meetings will help the U.S. Government prepare for U.S. participation in international meetings U.S. participation in upcoming CBD and Nagoya Protocol meetings. Documents and other information related to the CBD and Nagoya Protocol can be found at this website: www.cbd.int.

We seek comments on the CBD studies cited above, and also request information on practices regarding the collection, management and use of DSI or GSD; and regarding experiences with access and benefit-sharing approaches or requirements related to DSI/GSD. We welcome specific examples of the actual, and potential, impacts that could occur if tracking and benefit sharing for the utilization of DSI were required by domestic legislation, and encouraged under the Nagoya Protocol or other international ABS instruments, such as the International Treaty for Plant Genetic Resources for Food and Agriculture and the Pandemic Influenza Preparedness Framework. We are, likewise, interested in effects on research collaborations, international sample sharing, academic and commercial research, pandemic and epidemic preparedness and response, food security, and other aspects. We would also welcome views on what organizations can do to effectively protect the scientific process in the context of national-level ABS approaches potentially requiring tracking and benefit sharing for the utilization of DSI/GSD.

We also welcome examples of:

(1) Issues and/or examples related to the items described above or other items that could affect the scientific process;

(2) Monetary or non-monetary benefits that are facilitated by international sharing of DSI or GSD;

(3) Non-ABS challenges and barriers to sharing DSI or GSD that have significant implications for global research efforts that might merit additional attention or analysis.

Representatives from the Department of State will review written submissions and share them, as appropriate, with other Federal Agencies to inform U.S. Government policy and our international engagements on these issues. U.S. officials may contact individuals making submissions for further information or clarification.

Status: The meeting will be open to the public. Persons wishing to attend in person should submit their full name and organization to Patrick Reilly at ReillyPK2@state.gov and copy RSVP-ECW@state.gov at least three days prior to the meeting. Persons who need special accommodations should also contact Mr. Reilly at ReillyPK2@state.gov or (202) 647-4827 and copy RSVP-ECW@state.gov at least seven days before the meeting. Requests made after that time will be considered but might not be possible to accommodate. Personal data is requested pursuant to Public Law 99-399 (Omnibus Diplomatic Security and Antiterrorism Act of 1986), as amended; Public Law 107-56 (USA PATRIOT Act); and E.O. 13356. The purpose of the collection is to validate the identity of individuals who enter Department facilities. The data will be entered into the Visitor Access Control System (VACS-D) database. Please see the Security Records System of Records Notice (State-36) at https://www.state.gov/wp-content/uploads/2019/05/Security-Records-STATE-36.pdf for additional information.

Catherine J. Karr-Colque,
Acting Director, Office of Conservation and Water, Department of State.

[FR Doc. 2020-03423 Filed 2-19-20; 8:45 am]

BILLING CODE 4710-09-P